DEPARTMENT OF DEFENSE

Department of the Army

[Docket ID: USA-2008-0045]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on August 28, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 22, 2008.
Patricia L. Toppings,
OSD Federal Register Liaison Officer, Department of Defense.

A0210-7 DAMO

System name:

Expelled or Barred Person Files (February 22, 1993, 58 FR 10002).

Changes:

* * * * *

Category of Records:

Delete entry and replace with “Name of individual, Social Security Number (SSN), expulsion orders or debarment actions, investigative reports and supporting documents.”

* * * * *

Authority for Maintenance of the System:

Delete entry and replace with “10 U.S.C. 3013, Secretary of the Army; 18 U.S.C. 1382; Entering military, naval, or Coast Guard property; Army Regulation 210-7, Personal Commercial Solicitation on Army Installations; and E.O. 9397 (SSN).”

Purpose(s):

Delete entry and replace with “To assist the commander in prohibiting any person from entering or reentering any military installation for any purpose prohibited by law.”

* * * * *

Storage:

Paper records in file folders and electronic storage media.

* * * * *

A0210-7 DAMO

System Name:

Expelled or Barred Person Files.

System Location:

Records are maintained at the Army installation initiating the expulsion or debarment action.

Categories of Individuals Covered by the System:

Any citizen who is expelled or barred from an Army installation.

Categories of Records in the System:

Name of individual, Social Security Number (SSN), expulsion orders or debarment actions, investigative reports and supporting documents.

Authority for Maintenance of the System:

10 U.S.C. 3013, Secretary of the Army; 18 U.S.C. 1382; Entering military, naval, or Coast Guard property; Army Regulation 210-7, Personal Commercial Solicitation on army Installations; and E.O. 9397 (SSN).

Purpose(s):

To assist the commander in prohibiting any person from entering or reentering any military installation for any purpose prohibited by law.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and Practices for Storing, Retrieving, Accessing, Retaining, and Disposing of Records in the System:

Storage:

Paper records in file folders and electronic storage media.

Retrievability:

By individual's name.

Safeguards:

Distribution and access to files are based on strict need-to-know. Physical security measures include locked containers/storage areas, controlled personnel access, and continuous presence of authorized personnel.

Retention and Disposal:

Destroyed on revocation or upon discontinuance.

System Manager(s) and Address:

Deputy Chief of Staff for Operations and Plans, ATTN: DAMO-ODL, Headquarters, Department of the Army, Washington, DC 20310-0440.

Notification Procedure:

Individuals seeking to determine whether information about themselves is contained in this system should address written inquires to the Deputy Chief of Staff for Operations and Plans, ATTN: DAMO-ODL, Headquarters, Department of the Army, Washington, DC 20310-0440.

Individual should provide the full name, Social Security Number, address, details concerning the expulsion or debarment action, and signature.

Record Access Procedures:

Individuals seeking access to information about themselves contained in this system should address written inquiries to the Deputy Chief of Staff for Operations and Plans, ATTN: DAMO-ODL, Headquarters, Department of the Army, Washington, DC 20310-0440.

Individual should provide the full name, Social Security Number, address, details concerning the expulsion or debarment action, and signature.

Contesting Record Procedures:

The Army's rules for accessing records, and for contesting contents and appealing initial agency determinations are contained in Army Regulation 340-21; 32 CFR part 505; or may be obtained from the system manager.

Record Source Categories:

Subjects, witnesses, victims, Military Police and U.S. Army Criminal Investigations Command personnel and special agents, informants, various Department of Defense, federal, state and local investigative and law enforcement agencies, departments or agencies of foreign governments; and any other individuals or organizations which may supply pertinent information.

Exemptions Claimed for the System:

Parts of this system may be exempt pursuant to 5 U.S.C. 552a(j)(2) if the information is compiled and maintained by a component of the agency that performs as its principle function any activity pertaining to the enforcement of criminal laws.

An exemption rule for this system has been promulgated in accordance with requirements of 5 U.S.C. 553(b)(1), (2), and (3), (c) and (e) and published in 32 CFR part 505. For additional information contact the system manager.

[FR Doc. E8-17322 Filed 7-28-08; 8:45 am]

BILLING CODE 5001-06-P